DEPARTMENT OF HEALTH AND HUMAN SERVICES

Administration for Children and Families

Submission for OMB Review; Social Services Block Grant (SSBG) Post-Expenditure Report (OMB #0970-0234)

AGENCY: Office of Community Services, Administration for Children and Families, HHS.

ACTION: Request for public comment.

SUMMARY: The Administration for Children and Families (ACF) is requesting a 3-year extension of the Social Services Block Grant (SSBG) Post-Expenditure Report (OMB #0970-0234, expiration 1/31/2021). Although ACF initially proposed changes (see 85 FR 57863), after reconsideration during the initial comment period, this request is for an extension with no changes.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: On an annual basis, states and territories are required to submit a Post-Expenditure Report that details their use of SSBG funds in each of the 29 service categories. Grantees are required to submit their Post-Expenditure Report within 6 months of the end of the period covered by the report.

OCS also allows states to use the Post-Expenditure Reporting form to provide pre-expenditure data for their annual Intended Use Plans, which provides estimates of the expenditures and number of recipients by service category.

Respondents: Agencies that administer the SSBG at the state or territory level, including the 50 States; District of Columbia; Puerto Rico; and the territories of American Samoa, Guam, the Virgin Islands, and the Commonwealth of Northern Mariana Islands.

Annual Burden Estimates
Instrument | Annual number of respondents | Annual number of responses per respondent | Average burden hours per response | Total/ annual burden hours
Post-Expenditure Reporting Form | 56 | 1 | 110 | 6,160
Post-Expenditure Reporting Form for Pre-Expenditure Data (funding estimates for the Intended Use Plan) | 56 | 1 | 2 | 112

Estimated Total Annual Burden Hours: 6,272.

Authority: 42 U.S.C. 1397 through 1397e.

Mary B. Jones,
ACF/OPRE Certifying Officer.

[FR Doc. 2020-25639 Filed 11-19-20; 8:45 am]

BILLING CODE 4184-24-P